DEPARTMENT OF HOMELAND SECURITY

[Docket No. DHS-2025-0009]

Privacy Act of 1974; System of Records

AGENCY: Federal Emergency Management Agency, U.S. Department of Homeland Security.

ACTION: Rescindment of a system of records notice.

SUMMARY: In accordance with the Privacy Act of 1974, the U.S. Department of Homeland Security (DHS) is giving notice that it proposes to rescind the following Privacy Act system of records notice, “DHS/Federal Emergency Management Agency (FEMA)-017 Individuals and Households Program Equity Analysis Records System of Records.” The Notice of Rescindment identifies the system of records, explains why the notice is being rescinded, and provides an account of the records previously maintained in the system.

DATES: These changes will take effect upon publication.

ADDRESSES: You may submit comments, identified by docket number DHS-2025-0009 by one of the following methods:

• Federal e-Rulemaking Portal: http://www.regulations.gov. Follow the instructions for submitting comments.

• Fax: 202-343-4010.

• Mail: Roman Jankowski, Chief Privacy Officer, Privacy Office, Department of Homeland Security, Washington, DC 20528-0655.

FOR FURTHER INFORMATION CONTACT: For general questions, please contact: FEMA-Privacy@fema.dhs.gov, Senior Director for Information Management, Federal Emergency Management Agency, Washington, DC 20472-0001. For privacy questions, please contact: Roman Jankowski, Privacy@hq.dhs.gov, Chief Privacy Officer, Privacy Office, U.S. Department of Homeland Security, Washington, DC 20528-0655.

SUPPLEMENTARY INFORMATION: Pursuant to the provisions of the Privacy Act of 1974, 5 U.S.C. 552a, and as part of its ongoing integration and management efforts, DHS is rescinding the system of records notice, “DHS/FEMA—017 Individuals and Households Program Equity Analysis Records System of Records.” No new system of records is replacing this system of records. Eliminating this notice will have no adverse impacts on individuals, as FEMA will no longer collect the information for these purposes. FEMA will archive all historical records covered by this notice in inactive storage and will destroy them when the records are six (6) years and three (3) months old, in accordance with NARA Authority N1-311-86-1, item 4C10a. FEMA will continue to collect and maintain records regarding applicants for its disaster assistance programs, which provide financial and other tangible assistance to survivors of presidentially declared disasters or emergencies, and will rely upon the existing system of records notice titled “DHS/FEMA-008 Disaster Recovery Assistance Files System of Records (89 FR 73104, September 9, 2024). This rescindment will promote the overall streamlining and management of DHS Privacy Act record systems.

System Name and Number:

DHS/FEMA-017 Individuals and Households Program Equity Analysis Records System of Records.

History:

87 FR 47439 (August 3, 2022).

Roman Jankowski,
Chief Privacy Officer, U.S. Department of Homeland Security.

[FR Doc. 2025-05074 Filed 3-25-25; 8:45 am]

BILLING CODE 4410-10-P